DEPARTMENT OF COMMERCE

Foreign-Trade Zones Board

[B-17-2022]

Foreign-Trade Zone 61—San Juan, Puerto Rico; Application for Subzone; DB Research Group, LLC; Caguas, Puerto Rico

An application has been submitted to the Foreign-Trade Zones (FTZ) Board by the Department of Economic Development and Commerce, grantee of FTZ 61, requesting subzone status for the facility of DB Research Group, LLC, located in Caguas, Puerto Rico. The application was submitted pursuant to the provisions of the Foreign-Trade Zones Act, as amended (19 U.S.C. 81a-81u), and the regulations of the FTZ Board (15 CFR part 400). It was formally docketed on April 26, 2022.

The proposed subzone (1.126 acres) is located at Lot 32, Rio Cañas Industrial Park, Caguas, Puerto Rico. No authorization for production activity has been requested at this time.

In accordance with the FTZ Board's regulations, Camille Evans and Christopher Wedderburn of the FTZ Staff are designated examiners to review the application and make recommendations to the FTZ Board.

Public comment is invited from interested parties. Submissions shall be addressed to the FTZ Board's Executive Secretary and sent to: ftz@trade.gov. The closing period for their receipt is June 13, 2022. Rebuttal comments in response to material submitted during the foregoing period may be submitted during the subsequent 15-day period to June 27, 2022.

A copy of the application will be available for public inspection in the “Online FTZ Information Section” section of the FTZ Board's website, which is accessible via www.trade.gov/ftz.

For further information, contact Camille Evans and Christopher Wedderburn at Camille.Evans@trade.gov and Chris.Wedderburn@trade.gov.

Dated: April 27, 2022.
Andrew McGilvray,
Executive Secretary.

[FR Doc. 2022-09362 Filed 4-29-22; 8:45 am]

BILLING CODE 3510-DS-P